ENVIRONMENTAL PROTECTION AGENCY

[FRL-6965-7]

Air Quality Criteria for Particulate Matter (External Review Draft)

AGENCY: Environmental Protection Agency (EPA).

ACTION: Notice of a draft for public review and comment.

SUMMARY: On or about April 12, 2001, the National Center for Environmental Assessment (NCEA), within EPA's Office of Research and Development, will make available for public review and comment a second external review draft of the Air Quality Criteria for Particulate Matter. Required under sections 108 and 109 of the Clean Air Act, the purpose of this document is to provide an assessment of the latest scientific information on the effects of airborne particulate matter (PM) on the public health and welfare for use in the next periodic review of the National Ambient Air Quality Standards (NAAQS) for PM.

DATES: Comments on the draft document must be submitted in writing no later than July 12, 2001. Send the written comments to the Project Manager for Particulate Matter, National Center for Environmental Assessment-RTP (MD-52), U.S. Environmental Protection Agency, Research Triangle Park, NC 27711.

ADDRESSES: A copy of the Air Quality Criteria for Particulate Matter (Second External Review Draft) will be available on CD ROM from NCEA-RTP. Contact Ms. Diane Ray by phone (919-541-3637), fax (919-541-1818), or email (ray.diane@epa.gov) to request the document. Please provide the document's title, Air Quality Criteria for Particulate Matter (Second External Review Draft), as well as your name and address to properly process your request. Internet users will be able to download a copy from the NCEA home page. The URL is http://www.epa.gov/ncea/.

FOR FURTHER INFORMATION CONTACT: Dr. Dennis Kotchmar, National Center for Environmental Assessment-RTP (MD-52), U.S. Environmental Protection Agency, Research Triangle Park, NC 27711; telephone: 919-541-4158; fax: 919-541-1818; e-mail: kotchmar.dennis@epa.gov.

SUPPLEMENTARY INFORMATION: The EPA is updating and revising, where appropriate, the EPA's Air Quality Criteria for Particulate Matter. Sections 108 and 109 of the Clean Air Act require that the EPA carry out a periodic review and revision, where appropriate, of the scientific criteria and the NAAQS for “criteria” air pollutants such as particulate matter. Details of the EPA's plans for the review of the NAAQS for PM were announced in a previous Federal Register notice (62 FR 55201, October 23, 1997). The first external review draft of the Air Quality Criteria for Particulate Matter was made available for public review in October 1999 (64 FR 57884, October 27, 1999). Following that public review period and the ensuing Clean Air Scientific Advisory Committee (CASAC) meeting in December 1999 (64 FR 61875, November 15, 1999), the document has undergone revision to incorporate comments from the public review and the CASAC meeting, as well as many recently completed studies on the health effects of particulate matter. After the end of the comment period on the second external review draft, the EPA will again present the draft document for review by the CASAC in a public meeting. A subsequent Federal Register notice will inform the public of the exact date and time of that meeting. Following the CASAC meeting, the EPA will again incorporate revisions to the document in response to public comments and CASAC review.

The EPA's Office of Air Quality Planning and Standards will prepare a Staff Paper (SP) for the Administrator, drawing on information in the criteria document. The SP will evaluate the policy implications of the key studies and scientific information contained in the criteria document and identify critical elements that EPA staff believes should be considered in reviewing the standards. The SP is intended to bridge the gap between the scientific review in the criteria document and the public health and welfare policy judgments required of the Administrator in reviewing the NAAQS for PM.

Dated: March 30, 2001.
Arthur F. Payne,
Acting Director, National Center for Environmental Assessment.

[FR Doc. 01-9057 Filed 4-11-01; 8:45 am]

BILLING CODE 6560-50-P